DEPARTMENT OF TRANSPORTATION

Federal Highway Administration

Environmental Impact Statement: Alexander, Johnson, Massac, Pulaski, and Union Counties, Illinois; Ballard and McCracken Counties, Kentucky; and Cape Girardeau, Scott and Mississippi Counties, Missouri

AGENCY: Federal Highway Administration (FHWA), DOT.

ACTION: Notice of Intent.

SUMMARY: The FHWA is issuing this notice to advise the public that a Tier 1 Environmental Impact Statement (EIS) will be prepared for the 66 Corridor Project in Alexander, Johnson, Massac, Pulaski, and Union Counties, Illinois; Ballard, and McCracken Counties, Kentucky; and Cape Girardeau, Mississippi and Scott Counties, Missouri.

FOR FURTHER INFORMATION CONTACT: Catherine A. Batey, Division Administrator, Federal Highway Administration, 3250 Executive Park Drive, Springfield, Illinois 62703, Phone: (217) 492-4600. Jeffrey L. Keirn, P.E., Deputy Director of Highways, Region Five Engineer, Illinois Department of Transportation, State Transportation Building, 2801 W. Murphyboro, P.O. Box 100, Carbondale, Illinois 62903, (618) 549-2171.

SUPPLEMENTARY INFORMATION: The FHWA, in cooperation with Illinois Department of Transportation, will prepare a Tier 1 EIS for the 66 Corridor Project. The anticipated project termini are Interstate 55 in Missouri and Paducah, Kentucky. The project study area includes portions of the following counties: Alexander, Union, Pulaski, Johnson and Massac Counties in Illinois; Ballard and McCracken Counties in Kentucky; and Cape Girardeau, Mississippi and Scott Counties in Missouri. The study area covers approximately 2,500 square miles.

The Tier 1 EIS for the 66 Corridor Project is being conducted to evaluate the need for an improved transportation system between Paducah, Kentucky and I-55 in Missouri. The Tier One EIS will complete a broad analysis of transportation system alternative(s) in the study area and evaluate environmental impacts at a planning level of detail using a Geographic Information System (GIS) supplemented as needed by field investigations, transportation studies, economic impact studies, and cost analysis.

The primary environmental resources that may be affected by this project are: national forests; conservation areas; wildlife refuges; agricultural, residential, commercial, and industrial properties; cultural resources; Section 4(f) resources; threatened and endangered species; streams and floodplains; and wetlands. It is anticipated that a U.S. Army Corp of Engineers Section 404 permit and a U.S. Coast Guard Section 10 permit will be required for this project.

Alternatives assessed will seek to avoid and minimize impacts to these resources. In accordance with IDOT policies, the project is being developed using Context Sensitive Solutions (CSS) as the basis for an extensive stakeholder outreach program.

As part of early project coordination, scoping activities have been completed within the study area. A scoping summary will be prepared and distributed to the resource agencies.

A range of Alternatives will be developed and evaluated, including but not limited to: taking no action, existing roadway improvements, and new roadways on new location.

The Stakeholder Involvement Plan (SIP), which will satisfy the 23 U.S.C. Section 139 requirements for a Coordination Plan, will be developed to ensure that a full range of issues related to this proposed project are identified and addressed. The SIP provides meaningful opportunities for all stakeholders to participate in defining transportation issues and solutions for the study area.

Comments or questions concerning this proposed action and the Tier 1 EIS are invited from all interested parties and should be directed to the FHWA at the address provided above or the following Web site: www.66corridor.org

A public hearing will be held after the Tier 1 Draft EIS is published and made available for public and agency review. Public notice will be given of the time and place of public meetings and hearings.

The Tier One EIS will conclude with a Record of Decision selecting either a no-build or a preferred corridor, or corridors. Following completion of the Tier One Record of Decision, projects with independent utility may be advanced to Tier Two NEPA documents that focus on detailed environmental analyses.

(Catalog of Federal Domestic Assistance Program Number 20.205, Highway Research, Planning and Construction. The regulations implementing Executive Order 12372 regarding intergovernmental consultation on Federal programs and activities apply to this program).

Issued on: May 14, 2014.
Catherine A. Batey,
Division Administrator, Federal Highway Administration, Springfield, Illinois.

[FR Doc. 2014-11699 Filed 5-20-14; 8:45 am]

BILLING CODE 4910-22-P